DEPARTMENT OF COMMERCE

National Oceanic and Atmospheric Administration

50 CFR Part 648

[Docket No. 020215032-2127 02; I.D. 082702D]

Fisheries of the Northeastern United States; Atlantic Bluefish Fishery; Adjustment to 2002 Quotas; Commercial Quota for New York

AGENCY: National Marine Fisheries Service (NMFS), National Oceanic and Atmospheric Administration (NOAA), Commerce.

ACTION: Commercial quota adjustment

SUMMARY: NMFS issues this notification announcing an adjustment to the 2002 commercial Atlantic bluefish quota for the State of New York. This action complies with regulations implementing the Fishery Management Plan for Atlantic Bluefish (FMP), which requires that landings in excess of a state's commercial quota be deducted from a state's respective quota the following year. The public is advised that a quota adjustment has been made and is informed of the revised quota for the affected state.

DATES: Effective September 12, 2002 through December 31, 2002.

FOR FURTHER INFORMATION CONTACT: Myles A. Raizin, Fishery Policy Analyst, 978-281-9104.

SUPPLEMENTARY INFORMATION: Regulations implementing Atlantic bluefish management measures are found at 50 CFR part 648, subpart J. The regulations require annual specification of a commercial quota that is apportioned among the Atlantic coastal states from Maine through North Carolina. The process to set the annual commercial quota and the percent allocated to each state is described in § 648.160. The final specifications for the 2001 Atlantic bluefish fishery set a total commercial quota equal to 9.58 million lb (4.35 million kg)(66 FR 23625; May 9, 2001). New York's quota share was calculated to be 995,204 lb (451,544 kg). However, in 2001, New York received an addition to its quota of 200,000 lb (90,704 kg) via transfers from other states under provisions at § 648.160(f). Therefore, New York's final adjusted 2001 quota was 1,195,204 lb (542,289 kg).

Section 648.160(e)(2) provides that all landings in a state shall be applied against that state's annual commercial quota. Any landings in excess of the state's quota must be deducted from that state's annual quota for the following year.

Based on dealer reports and other available information, NMFS has determined that the State of New York landed 1,411,268 lb (640,231 kg) of Atlantic bluefish in 2001, thus exceeding its 2001 adjusted commercial quota by 216,064 lb (98,033 kg). Landings for other states were below their respective quotas.

On June 6, 2002, final specifications for the 2002 commercial Atlantic bluefish became effective (67 FR 38909). Total commercial harvest was specified at 10.5 million lb (4.76 million kg). New York's share of the commercial quota for 2002 totaled 1,090,436 lb (494,753 kg). Consistent with the regulations regarding the disposition of overages, New York's 2002 Atlantic bluefish commercial quota is hereby reduced by 216,064 lb (98,033 kg) from 1,090,436 lb (494,753 kg) to 874,372 lb (396,721 kg).

Classification

This action is required by 50 CFR part 648 and is exempt from review under Executive Order 12866.

Authority: 16 U.S.C. 1801 et seq.

Dated: september 5,2002.
Virginia M. Fay,
Acting Director, Office of Sustainable Fisheries, National Marine Fisheries Service.

[FR Doc. 02-23098 Filed 9-11-02; 8:45 am]

BILLING CODE 3510-22-S